DEPARTMENT OF EDUCATION

[CFDA No.: 84.310A]

Parental Assistance Program;Notice Inviting Applications for New Awards for Fiscal Year (FY) 2001

Purpose of Program: The purpose of the Parental Assistance Program, 20 U.S.C. 5911, et seq., is to (1) increase parents' knowledge of and confidence in child-rearing activities, such as teaching and nurturing their young children; (2) strengthen partnerships between parents and professionals in meeting the educational needs of children aged birth through five years and the working relationship between home and school; and (3) enhance the developmental progress of the children assisted under the program.

Eligible Applicants: Nonprofit organizations, and nonprofit organizations in consortia with local educational agencies (LEAs).

From the available funds, awards will initially be made to successful applicants from States in which the current Parental Assistance Program grants are expiring. Thus, in this competition, a grant will first be awarded to a successful applicant from each of the following twelve jurisdictions: Alabama, Arkansas, Guam, Illinois, Indiana, Louisiana, Mississippi, Nebraska, North Dakota, Oregon, Rhode Island, and South Carolina. The remaining funds will be used to award grants to successful applicants from any of the States, the District of Columbia, Puerto Rico, and the outlying areas. As a result, all states will have at least one parental information and resource center; some States will have a second center funded.

An LEA, by itself, is not eligible for an award. However, an LEA may be part of a consortium with a nonprofit organization that applies. In those instances, the award would be made to the nonprofit organization, which would serve as the fiscal agent.

For purposes of this competition, nonprofit organizations do not include institutions of higher education, State educational agencies, LEAs, intermediate school districts, schools, government entities, or hospitals.

Applications Available: May 7, 2001.

Deadline for Transmittal of Applications: June 21, 2001.

Deadline for Intergovernmental Review: August 7, 2001.

Available Funds: $12,000,000. Of this amount, approximately $5.5 million will be used to award a grant to successful applicants from each of the twelve jurisdictions specifically identified above. The remaining amount will be used to award grants to successful applicants from any State, the District of Columbia, Puerto Rico, or the outlying areas. The Department will fund no more than two parent centers in any jurisdiction.

Estimated Range of Awards: $200,000 to $700,000.

Note: Due to anticipated variances in the scope of proposed activities and the number of program beneficiaries, the estimated range is very broad.

Estimated Number of Awards: 25. Of this number, a grant will be awarded to a successful applicant from each of the twelve jurisdictions identified above. The remaining thirteen awards will be made to successful applicants from any State, the District of Columbia, Puerto Rico, or the outlying areas.

Note: These estimates are projections for the guidance of potential applicants. The Department of Education is not bound by any estimates in this notice.

Project Period: Up to 12 months.

Applicable Regulations: The Education Department General Administrative Regulations (EDGAR) in 34 CFR parts 74, 75, 77, 79, 81, 82, and 85, 86, 97, 98, and 99.

Note: The regulations in 34 CFR part 80 (Uniform Administrative Requirements for Grants and Cooperative Agreements to State and Local Governments) apply to an LEA that is part of a consortium receiving assistance.

(1) Competitive Preference: The Secretary has published elsewhere in this issue of the Federal Register a notice of final priorities, which establishes a competitive preference of up to 10 additional points in this competition.

Invitational Priority: Schools must provide a safe, disciplined environment conducive to learning. Projects funded under this program are in a unique position to incorporate in their services activities that assist parents, schools, and the community in implementing strategies to reduce youth violence. The Secretary invites applicants to include as part of their proposals activities to help parents recognize early warning signs that relate to violence and other troubling behaviors. However, under 34 CFR 75.105(c)(1), an applicant that meets this invitational priority receives no competitive or absolute preference over applications that do not meet the priority.

Description of Program: The Parental Assistance Program supports parental information and resource centers that are designed to meet the unique training, information, and support needs of parents of children from birth through five years of age and of parents of children enrolled in elementary and secondary schools, particularly parents who are economically or educationally disadvantaged. Funded centers must serve both urban and rural areas, and use at least half of their grant award to serve areas with high concentrations of low-income families. Activities of the center must focus on serving parents of low-income, minority, and limited-English proficient parents. Each center must use part of its funds to support Parents as Teachers Programs or Home Instruction Programs for Preschool Youngsters. (Descriptions of these programs are in the application package.)

Applicants should be aware that the legislation at 20 U.S.C. 5912 establishes specific requirements for the organizational structure, operation, and activities of the parent centers. To be eligible for funding, an applicant must meet these statutory requirements. (A copy of the program legislation is included in the application package.)

In instances in which more than one parent center is funded in a jurisdiction, the centers should collaborate with each other as part of their networking responsibilities. (A list of current grantees is included in the application package.)

Applicants should be aware that section 1118(g) of the Elementary and Secondary Education Act of 1965, as amended by the Improving America's Schools Act of 1994, requires schools and districts receiving Title I funds to assist parents and parent organizations by informing them of the existence and purpose of the parent information and resource center in their State, providing them with a description of the services and programs provided by the center, advising parents on how to use the center, and helping them contact the center. Consequently, applicants should be prepared to address the demand for their services created by this requirement.

Selection Criteria: The Secretary will use selection criteria and factors from 34 CFR 75.210 to evaluate applications under this competition. The specific selection criteria and factors that will be used in evaluating applications are detailed in the application package.

The maximum score for all of the selection criteria is 100 points. The total maximum score of an application is 110 points (100 points under the selection criteria and a maximum of 10 points under the competitive preference referenced elsewhere in this notice and published separately in this issue of the Federal Register.)

The maximum points for each criterion are as follows:

(1) Need for project—20 points.

(2) Quality of the project design—22 points.

(3) Quality of project services—20 points.

(4) Quality of project personnel—9 points.

(5) Adequacy of resources—7 points.

(6) Quality of the project evaluation—22 points.

Intergovernmental Review: This program is subject to the requirements of Executive Order 12372 (Intergovernmental Review of Federal Programs) and the regulations in 34 CFR part 79. (Intergovernmental Review instructions are contained in the application package.)

For Applications and Information Contact: Rachael Couch, (202) 401-0039, U.S. Department of Education, 400 Maryland Avenue, SW, FOB 6, Room 3E243, Mail Stop 6400, Washington, DC 20202. The e-mail address for Ms. Couch is: rachael couch@ed.gov.

Individuals who use a telecommunications device for the deaf (TDD) may call the Federal Information Relay Service (FIRS) at 1-888-877-8339.

Individuals with disabilities may obtain this document in an alterntive format (e.g., Braille, large print, audiotape, or computer diskette) on request to the contact person listed above.

Individuals with disabilities may also obtain a copy of the application package in an alternative format on request to the contact person listed. However, the Department is not able to reproduce in an alternative format the standard forms included in the application package.

Electronic Access To This Document: You may view this document, as well as other Department of Education documents published in the Federal Register, in text or Adobe Portable Document Format (PDF) on the Internet at the following site: www.ed.gov/legislation/FedRegister

To use PDF you must have Adobe Acrobat Reader, which is available free at the preceding site. If you have questions about using PDF, call the U.S. Government Printing Office (GPO), toll free, at 1-888-293-6498, or in the Washington, DC area at (202) 512-1530.

Note: The official version of this document is the document published in the Federal Register. Free Internet access to the official edition of the Federal Register and the Code of Federal Regulations is available on GPO Access at: http://www.access.gpo.gov/nara/index.html

Program Authority: 20 U.S.C. 5911 et seq.

Dated: May 1, 2001.
Thomas M. Corwin,
Acting Deputy Assistant Secretary for Elementary and Secondary Education.

[FR Doc. 01-11438 Filed 5-4-01; 8:45 am]

BILLING CODE 4000-01-U